DEPARTMENT OF THE TREASURY

Submission for OMB Review; Comment Request

July 16, 2013.

The Department of the Treasury will submit the following information collection requests to the Office of Management and Budget (OMB) for review and clearance in accordance with the Paperwork Reduction Act of 1995, Public Law 104-13, on or after the date of publication of this notice.

DATES: Comments should be received on or before August 19, 2013 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0007.

Type of Review: Extension without change of a currently approved collection.

Title: Forest Activities Schedule.

Form: T.

Abstract: Form T is filed by individuals and corporations to report income and deductions from the operation of a timber business. The IRS uses Form T to determine if the correct amount of income and deductions are reported.

Affected Public: Private Sector; Businesses or other for-profits.

Estimated Annual Burden Hours: 446,208.

OMB Number: 1545-0159.

Type of Review: Revision of a currently approved collection.

Title: Annual Return To Report Transactions With Foreign Trusts and Receipts of Certain Foreign Gifts.

Form: 3520.

Abstract: Form 3520 is filed by U.S. persons who create a foreign trust, transfer property to a foreign trust, receive a distribution from a foreign trust, or receive a large gift from a foreign source. IRS uses the form to identify the U.S. persons who may have transactions that may trigger a taxable event in the future.

Affected Public: Private Sector: Businesses and other for-profits.

Estimated Annual Burden Hours: 71,742.

OMB Number: 1545-0213.

Type of Review: Extension without change of a currently approved collection.

Title: Annual Certification of Racial Nondiscrimination for a Private School Exempt from Federal Income Tax.

Form: 5578.

Abstract: Form 5578 is used by private schools that do not file Schedule A (Form 990) to certify that they have a racially nondiscriminatory policy toward students as outlined in Revenue Procedure 75-50. The Internal Revenue Service uses the information to help ensure that the school is maintaining a nondiscriminatory policy in keeping with its exempt status.

Affected Public: Private Sector: Not-for-profit institutions.

Estimated Annual Burden Hours: 3,730.

OMB Number: 1545-0742.

Type of Review: Extension without change of a currently approved collection.

Title: TD 8019—Public Inspection of Exempt Organization Return.

Abstract: Section 6104(b) authorizes the Service to make available to the public the returns required to be filed by exempt organizations. The information requested in § 301.6104(b)-1(b)(4) is necessary in order for the Service not to disclose confidential business information furnished by businesses which contribute to exempt black lung trusts.

Affected Public: Private Sector: Businesses and other for-profits.

Estimated Annual Burden Hours: 22.

OMB Number: 1545-0768.

Type of Review: Extension without change of a currently approved collection.

Title: TD 7898—Employers Qualified Educational Assistance Programs.

Abstract: Respondents include employers who maintain education assistance programs for their employees. Information verifies that programs are qualified and that employees may exclude educational assistance from their gross incomes.

Affected Public: Private Sector: Businesses or other for-profits.

Estimated Annual Burden Hours: 615.

OMB Number: 1545-0949.

Type of Review: Extension without change of a currently approved collection.

Title: Application for Special Enrollment Examination.

Form: 2587.

Abstract: This information relates to the determination of the eligibility of individuals seeking enrollment status to practice before the Internal Revenue Service.

Affected Public: Individuals or Households.

Estimated Annual Burden Hours: 11,000.

OMB Number: 1545-1093.

Type of Review: Extension without change of a currently approved collection.

Title: TD 8416—Final Minimum Tax-Tax Benefit Rule.

Abstract: Section 58(h) of the Internal Revenue Code provides that the Secretary shall provide for adjusting tax preference items where such items provided no tax benefit for any taxable year. This regulation provides guidance for situations where tax preference items provided no tax benefit because of available credits and describes how to claim a credit or refund of minimum tax paid on such preferences.

Affected Public: Private Sector: Businesses or other for-profits.

Estimated Annual Burden Hours: 40.

Dawn D. Wolfgang,
Treasury PRA Clearance Officer.

[FR Doc. 2013-17326 Filed 7-18-13; 8:45 am]

BILLING CODE 4830-01-P